DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by October 19, 2023. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Specialty Crops Market News Reports.

OMB Control Number: 0581-0006.

Summary of Collection: Section 203(g) of the Agricultural Marketing Act of 1946 (7 U.S.C. 1621) directs and authorizes the collection of information and disseminating of market information including adequate outlook information on a market-area basis for the purpose of anticipating and meeting consumer requirements, aiding in the maintenance of farm income and bringing about balance between production and utilization of agriculture products.

Market News provides all interested segments of the market chain with timely, accurate information from an unbiased third party. Equal access to timely and reliable market information tends to equalize the competitive position of all market participants. In the absence of Market News information and reports, small and medium sized market participants with limited resources for developing and collecting information are at a competitive disadvantage to larger participants who might be able to afford very sophisticated information systems.

Need and Use of the Information: AMS will collect market information on some 411 specialty crops for prices and supply. The Specialty Crops Market News Division reports are used by academia and various government agencies for regulatory and other purposes, but are primarily used by the specialty crops trade, which includes packers, processors, brokers, retailers, producers, and associated industries. Members of the specialty crops industry regularly make it clear that they need and expect AMS to issue price and supply market reports for commodities of regional, national, and international significance in order to assist in making immediate production and marketing decisions and as a guide to the amount of product in the supply channel.

In addition, AMS buys hundreds of millions of dollars of specialty crops products each year for domestic feeding programs, and Specialty Crops Market News Division data is a critical component of the decision-making process. The absence of these data would deny primary and secondary users information that otherwise would be available to aid them in their production, marketing decisions, analyses, research and knowledge of current market conditions. The omission of these data could adversely affect prices, supply, and demand.

Description of Respondents: Farms; Business or other for-profit.

Number of Respondents: 2,761.

Frequency of Responses: Reporting: Weekly; Monthly.

Total Burden Hours: 50,071.

Levi S. Harrell,
Departmental Information Collection Clearance Officer.

[FR Doc. 2023-20267 Filed 9-18-23; 8:45 am]

BILLING CODE 3410-02-P